DEPARTMENT OF HOMELAND SECURITY

Coast Guard

33 CFR Part 165

[Docket No. USCG-2019-0721]

Safety Zones; Recurring Events in Captain of the Port Duluth Zone—Lake Superior Dragon Boat Festival Fireworks

AGENCY: Coast Guard, DHS.

ACTION: Notice of enforcement of regulation.

SUMMARY: The Coast Guard will enforce the safety zone for the Lake Superior Dragon Boat Festival Fireworks in Superior, WI from 08:30 p.m. through 10:00 p.m. on August 23, 2019. This action is necessary to protect participants and spectators during the Lake Superior Dragon Boat Festival Fireworks. During the enforcement period, entry into, transiting, or anchoring within the safety zone is prohibited unless authorized by the Captain of the Port Duluth or their designated on-scene representative.

DATES: The regulations in Table 1 to § 165.943(10) of 33 CFR 165.943 for the Lake Superior Dragon Boat Festival Fireworks safety zone will be enforced from 8:30 p.m. through 10:00 p.m. on August 23, 2019.

FOR FURTHER INFORMATION CONTACT: If you have questions on this document, call or email LT Abbie Lyons, Chief of Waterways Management, Coast Guard; telephone (218) 725-3818, email DuluthWWM@uscg.mil.

SUPPLEMENTARY INFORMATION: The Coast Guard will enforce the safety zone for the annual Lake Superior Dragon Boat Festival Fireworks in Table 1 to § 165.943(10) of 33 CFR 165.943 from 08:30 p.m. through 10:00 p.m. on August 23, 2019, on all waters of Superior Harbor bounded by the arc of a circle with a 300-foot radius from the fireworks launch site with its center in position 46°43′28″ N, 092°03′47″ W.

Entry into, transiting, or anchoring within the safety zone is prohibited unless authorized by the Captain of the Port Duluth or their designated on-scene representative. The Captain of the Port's designated on-scene representative may be contacted via VHF Channel 16.

This document is issued under authority of 33 CFR 165.943 and 5 U.S.C. 552 (a). In addition to this publication in the Federal Register, the Coast Guard will provide the maritime community with advance notification of the enforcement of this safety zone via Broadcast Notice to Mariners. The Captain of the Port Duluth or their on-scene representative may be contacted via VHF Channel 16.

Dated: August 14, 2019.
F.M. Smith,
Commander, U.S. Coast Guard, Captain of the Port.

[FR Doc. 2019-17893 Filed 8-19-19; 8:45 am]

BILLING CODE 9110-04-P